OFFICE OF PERSONNEL MANAGEMENT

Excepted Service; March 2023

AGENCY: Office of Personnel Management.

ACTION: Notice.

SUMMARY: This notice identifies Schedule A, B, and C appointing authorities applicable to a single agency that were established, modified or revoked from March 1, 2023 to March 31, 2023.

FOR FURTHER INFORMATION CONTACT: Julia Alford, Senior Executive Resources Services, Senior Executive Services and Performance Management, Employee Services, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established, modified, or revoked each month in the Federal Register at www.gpo.gov/fdsys/. OPM also publishes an annual notice of the consolidated listing of all Schedule A, B, and C appointing authorities, current as of June 30, in the Federal Register.

Schedule A

09. Department of the Air Force (Schedule A, 213.3109)

(d) U.S. Air Force Academy, Colorado—

(2) Positions of Professor, Associate Professor, Assistant Professor, and Instructor, in the Dean of Faculty, Commandant of Cadets, Director of Athletics, and Preparatory School of the United States Air Force Academy. Permanent or time limited appointments may be made using this authority.

11. Department of Commerce (Schedule A, 213.3114)

(m) National Institute of Standards and Technology

(1) Not to exceed 50 positions in support of implementation of the CHIPS Act. Positions will be in the following occupations of Management and Program Analyst (ZA-343 Pay Bands III, IV), Program Manager (ZA-340 Pay Bands IV, V), Public Affairs Specialist (ZA-1035 Pay Bands III, IV, V). Permanent, temporary or time limited appointments may be made when using this authority.

68. U.S. Agency for International Development (Schedule A, 213.3168)

(a) Up to 350 positions for Crisis Operations Staffing needed to respond to urgent humanitarian, political, health and/or other crises of significant U.S. foreign policy interest. The authority may be used for temporary or time limited positions at the GS-9 through 15 grade levels for positions in the GS-0130 Foreign Affairs series, GS-089 Emergency Management series, and GS-301 Miscellaneous and Program series or other positions directly related to responding to urgent humanitarian political, health and/or other crises of significant U.S. foreign policy interest.

Schedule B

No Schedule B Authorities to report during March 2023.

Schedule C

The following Schedule C appointing authorities were approved during March 2023.

Agency name | Organization name | Position title | Authorization No. | Effective date
DEPARTMENT OF AGRICULTURE | Office of Communications | Special Advisor | DA230054 | 03/03/2023
| Farm Service Agency | Policy Advisor | DA230064 | 03/13/2023
| Natural Resources Conservation Service | Special Assistant Assistant Chief Special Advisor | DA230066 DA230063 DA230067 | 03/09/2023 03/20/2023 03/20/2023
| Office of the Assistant Secretary for Congressional Relations | Director of Oversight | DA230065 | 03/20/2023
| Office of the General Counsel | Senior Counselor Senior Oversight Counselor | DA230055 DA230061 | 03/09/2023 03/10/2023
| Office of the Secretary | Deputy Director of Scheduling | DA230068 | 03/09/2023
| Office of the Under Secretary for Farm Production and Conservation | Confidential Assistant | DA230062 | 03/23/2023
| Office of the Under Secretary for Marketing and Regulatory Programs | Chief of Staff | DA230051 | 03/09/2023
| Rural Utilities Service | Senior Advisor | DA230073 | 03/28/2023
DEPARTMENT OF COMMERCE | Bureau of Industry and Security | Deputy Director of Congressional Affairs | DC230102 | 03/23/2023
| National Institute of Standards and Technology | Public Engagement Specialist | DC230107 | 03/23/2023
| Office of Legislative and Intergovernmental Affairs | Special Assistant | DC230100 | 03/23/2023
| Office of Policy and Strategic Planning | Special Assistant | DC230104 | 03/23/2023
| Office of the Deputy Secretary | Special Assistant to the Deputy Secretary | DC230087 | 03/03/2023
| Office of the General Counsel | Counsel | DC230086 | 03/03/2023
| Office of White House Liaison | Deputy White House Liaison | DC230085 | 03/02/2023
COMMISSION ON CIVIL RIGHTS | Office of the Commissioners | Special Assistant to the Commissioner | CC230001 | 03/31/2023
DEPARTMENT OF DEFENSE | Office of the Under Secretary of Defense (Comptroller) | Special Assistant | DD230123 | 03/14/2023
| Office of the Assistant to the Secretary of Defense (Public Affairs) | Director of Digital Media | DD230127 | 03/20/2023
| Office of the Under Secretary of Defense (Acquisition and Sustainment) | Special Assistant | DD230130 | 03/31/2023
DEPARTMENT OF THE AIR FORCE | Office of the Secretary | Special Assistant to the Secretary of the Air Force | DF230009 | 03/14/2023
DEPARTMENT OF THE ARMY | Office of the Under Secretary | Speechwriter to the Under Secretary of the Army | DW230021 | 03/20/2023
| Office of the General Counsel | Attorney Advisor to the Army General Counsel | DW230022 | 03/20/2023
DEPARTMENT OF EDUCATION | Office of Communications and Outreach | Director, Rural Engagement | DB230050 | 03/08/2023
DEPARTMENT OF ENERGY | Office of the Assistant Secretary for Electricity | Special Assistant | DE230072 | 03/03/2023
| Office of Public Affairs | Deputy Press Secretary | DE230074 | 03/06/2023
|  | Digital Content Manager (2) | DE230075 DE230088 | 03/09/2023 03/22/2023
| Office of Management | Director, Office of Executive Secretariat | DE230091 | 03/29/2023
EXPORT-IMPORT BANK | Office of External Engagement | Senior Vice President for External Engagement | EB230008 | 03/02/2023
FEDERAL TRADE COMMISSION | Office of the Chair | Special Advisor to the Chair | FT230009 | 03/07/2023
DEPARTMENT OF HEALTH AND HUMAN SERVICES | Office of Administration for Community Living | Advisor | DH230174 | 03/17/2023
| Agency for Healthcare Research and Quality | Senior Advisor | DH230157 | 03/09/2023
| Center for Medicaid and Chip Services | Senior Advisor | DH230173 | 03/08/2023
| Office of Indian Health Service | Senior Advisor to the Director | DH230175 | 03/17/2023
| Office of Intergovernmental and External Affairs | Senior Advisor | DH230169 | 03/09/2023
| Office of the Assistant Secretary for Financial Resources | Senior Advisor Special Assistant | DH230158 DH230171 | 03/09/2023 03/10/2023
| Office of the Assistant Secretary for Public Affairs | Online Communications Director | DH230178 | 03/22/2023
| Office of the Deputy Secretary | Advisor (2) | DH230166 DH230168 | 03/02/2023 03/02/2023
| Office of the Secretary | Special Assistant (2) | DH230164 DH230159 | 03/01/2023 03/02/2023
|  | Deputy White House Liaison | DH230161 | 03/08/2023
|  | Scheduler | DH230179 | 03/23/2023
DEPARTMENT OF HOMELAND SECURITY | Cybersecurity and Infrastructure Security Agency | Senior Advisor | DM230188 | 03/20/2023
| Office of Public Affairs | Press Assistant Social Media Specialist | DM230156 DM230178 | 03/03/2023 03/20/2023
| Office of the General Counsel | Special Assistant | DM230180 | 03/31/2023
| Office of the Secretary | Briefing Book Coordinator (Deputy Secretary) | DM230183 | 03/24/2023
DEPARTMENT OF HOUSING AND URBAN DEVELOPMENT | Office of the Administration Government National Mortgage Association | Senior Advisor Special Advisor | DU230041 DU230043 | 03/02/2023 03/08/2023
DEPARTMENT OF THE INTERIOR | Office of the Assistant Secretary—Policy, Management and Budget | Advisor | DI230054 | 03/01/2023
| Secretary's Immediate Office | Senior Advisor for Infrastructure Equity | DI230055 | 03/01/2023
| Office of the Assistant Secretary—Fish and Wildlife and Parks | Senior Advisor | DI230064 | 03/20/2023
DEPARTMENT OF JUSTICE | Office of Public Affairs | Senior Communications Advisor | DJ230063 | 03/10/2023
| Office of the Associate Attorney General | Confidential Assistant | DJ230065 | 03/01/2023
| Office of the Deputy Attorney General | Counsel Senior Counsel | DJ230068 DJ230072 | 03/22/2023 03/23/2023
DEPARTMENT OF LABOR | Office of Employee Benefits Security Administration | Special Assistant | DL230059 | 03/13/2023
| Office of Employment and Training Administration | Policy Advisor | DL230054 | 03/01/2023
| Office of Public Affairs | Digital Content Manager | DL230055 | 03/10/2023
NATIONAL AERONAUTICS AND SPACE ADMINISTRATION | Office of the Administrator | Counselor for Interagency and International Operations | NN230028 | 03/13/2023
OFFICE OF MANAGEMENT AND BUDGET | Office of the Director Office of Information and Regulatory Affairs | Confidential Assistant Senior Counselor | BO230018 BO230019 | 03/10/2023 03/22/2023
| Staff Offices | Confidential Assistant | BO230020 | 03/23/2023
OFFICE OF NATIONAL DRUG CONTROL POLICY | Office of National Drug Control Policy | Legislative Analyst | QQ230007 | 03/22/2023
OFFICE OF PERSONNEL MANAGEMENT | Office of the Director | Senior Advisor for Special Projects | PM230037 | 03/29/2023
SECURITIES AND EXCHANGE COMMISSION | Office of Public Affairs | Senior Advisor to the Chair (Director of Speechwriting) | SE230004 | 03/15/2023
| Office of Commissioner Peirce | Confidential Assistant | SE230005 | 03/23/2023
| Office of Commissioner Uyeda | Confidential Assistant | SE230006 | 03/23/2023
SMALL BUSINESS ADMINISTRATION | Office of the Administrator | Senior Advisor for Public Engagement Public Engagement Coordinator | SB230016 SB230020 | 03/03/2023 03/15/2023
| Office of Communications and Public Liaison | Press Assistant Speechwriter | SB230022 SB230023 | 03/21/2023 03/21/2023
| Office of Field Operations | Regional Administrator, Region 7 | SB230019 | 03/22/2023
| Office of Congressional and Legislative Affairs | Legislative Policy Advisor | SB230021 | 03/23/2023
DEPARTMENT OF STATE | Bureau of European and Eurasian Affairs | Senior Advisor | DS230104 | 03/06/2023
| Bureau of Global Public Affairs | Deputy Assistant Secretary | DS230090 | 03/03/2023
| Bureau of Intelligence and Research | Senior Advisor (Speechwriter) | DS230116 | 03/29/2023
| Office of the Chief of Protocol | Protocol Officer (Visits) Protocol Officer | DS230098 DS230107 | 03/06/2023 03/09/2023
| Office of the Deputy Secretary for Management and Resources | Staff Assistant | DS230112 | 03/24/2023
| Office of the Secretary | Senior Advisor | DS230115 | 03/24/2023
| Office of the Under Secretary for Public Diplomacy and Public Affairs | Special Assistant | DS230108 | 03/09/2023
DEPARTMENT OF TRANSPORTATION | Office of the Secretary | Special Assistant to the Secretary of Transportation | DT230061 | 03/08/2023
|  | Deputy White House Liaison | DT230072 | 03/08/2023
DEPARTMENT OF THE TREASURY | Department of the Treasury | Special Assistant Senior Spokesperson | DY230060 DY230061 | 03/09/2023 03/09/2023
|  | Senior Scheduling and Advance Associate | DY230065 | 03/09/2023

The following Schedule C appointing authorities were revoked during March 2023.

Agency name | Organization name | Position title | Request No. | Vacate date
DEPARTMENT OF AGRICULTURE | Office of the Secretary | White House Liaison | DA220154 | 03/12/2023
DEPARTMENT OF COMMERCE | Immediate Office | Special Assistant to the Senior Advisors | DC220167 | 03/25/2023
| Minority Business Development Agency | Senior Advisor | DC220017 | 03/24/2023
| Office of National Telecommunications and Information Administration | Deputy Director of Congressional Affairs | DC220134 | 03/08/2023
| Office of Legislative and Intergovernmental Affairs | Special Assistant | DC220013 | 03/25/2023
| Office of Policy and Strategic Planning | Special Assistant | DC220152 | 03/25/2023
| Office of Public Affairs | Deputy Director of Public Affairs and Press Secretary | DC220032 | 03/24/2023
| Office of the Assistant Secretary for Economic Development | Special Policy Advisor to the Assistant Secretary | DC220088 | 03/12/2023
| Office of the Chief of Staff | Senior Advisor | DC220046 | 03/11/2023
| Office of the Deputy Secretary | Special Assistant | DC220096 | 03/25/2023
DEPARTMENT OF EDUCATION | Office of Communications and Outreach | Special Assistant Deputy Press Secretary | DB210046 DB220032 | 03/12/2023 03/11/2023
| Office of Elementary and Secondary Education | Confidential Assistant | DB210115 | 03/25/2023
| Office of Planning, Evaluation and Policy Development | Special Assistant | DB220004 | 03/11/2023
| Office of the Deputy Secretary | Chief of Staff | DB220074 | 03/25/2023
DEPARTMENT OF ENERGY | Office of Public Affairs | Speechwriter | DE220088 | 03/03/2023
DEPARTMENT OF HEALTH AND HUMAN SERVICES | Center for Medicaid and Chip Services | Policy Advisor | DH210228 | 03/11/2023
| Office for Civil Rights | Senior Advisor Special Advisor | DH220067 DH230057 | 03/12/2023 03/25/2023
| Office of Intergovernmental and External Affairs | Confidential Assistant External Affairs Specialist | DH220151 DH220041 | 03/25/2023 03/11/2023
| Office of the Assistant Secretary for Public Affairs | Online Communications Director | DH220044 | 03/25/2023
| Office of the Deputy Secretary | Special Assistant (2) | DH220030 DH230040 | 03/11/2023 03/11/2023
| Office of the Secretary | Scheduler | DH230130 | 03/10/2023
|  | Senior Advisor to the Executive Secretary | DH210109 | 03/03/2023
|  | Senior Advisor, Boards and Commissions | DH220068 | 03/11/2023
DEPARTMENT OF HOUSING AND URBAN DEVELOPMENT | Government National Mortgage Association | Senior Advisor | DU220026 | 03/25/2023
DEPARTMENT OF JUSTICE | Office of Civil Rights Division | Chief of Staff and Senior Counsel | DJ210170 | 03/05/2023
ENVIRONMENTAL PROTECTION AGENCY | Office of Public Affairs Office of the Administrator | Communications Advisor Advance Specialist | EP220051 EP210076 | 03/29/2023 03/25/2023
|  | Director of Scheduling and Advance | EP220042 | 03/11/2023
|  | Senior Advisor to the Administrator | EP220078 | 03/11/2023
| Office of the Assistant Administrator for Land and Emergency Management | Senior Advisor for Implementation | EP220073 | 03/25/2023
| Office of the Assistant Administrator for Water | Senior Advisor for Implementation | EP220038 | 03/10/2023
EXPORT-IMPORT BANK | Office of Congressional and Intergovernmental Affairs | Senior Vice President Congressional and Intergovernmental Affairs | EB220004 | 03/11/2023
GENERAL SERVICES ADMINISTRATION | Office of the Administrator | White House Liaison and Director of National Outreach | GS230006 | 03/26/2023
NATIONAL ENDOWMENT FOR THE HUMANITIES | National Endowment for the Humanities | Supervisory Public Affairs Specialist | NH210004 | 03/17/2023
|  | White House Liaison and Senior Advisor to the Chief of Staff | NH210008 | 03/25/2023
OFFICE OF MANAGEMENT AND BUDGET | Office of General Government Programs | Confidential Assistant | BO210025 | 03/31/2023
OFFICE OF THE SECRETARY OF DEFENSE | Office of the Under Secretary of Defense (Personnel and Readiness) | Special Assistant | DD220036 | 03/25/2023
| Washington Headquarters Services | Defense Fellow (5) | DD220016 DD220025 | 03/11/2023 03/11/2023
|  |  | DD220033 | 03/11/2023
|  |  | DD220170 | 03/11/2023
|  |  | DD220171 | 03/11/2023
SECURITIES AND EXCHANGE COMMISSION | Office of Commissioner Uyeda | Confidential Assistant | SE220015 | 03/09/2023
SMALL BUSINESS ADMINISTRATION | Office of Communications and Public Liaison | Director of Communications | SB210031 | 03/31/2023

Authority: 5 U.S.C. 3301 and 3302; E.O. 10577, 3 CFR, 1954-1958 Comp., p. 218.

Office of Personnel Management.
Kayyonne Marston,
Federal Register Liaison.

[FR Doc. 2023-13636 Filed 6-26-23; 8:45 am]

BILLING CODE 6325-38-P